DEPARTMENT OF TRANSPORTATION

National Highway Traffic Safety Administration

Forum on Human Factors Research Necessary To Support Advanced Vehicle Safety Technologies; Correction

AGENCY: National Highway Traffic Safety Administration (NHTSA), DOT.

ACTION: Meeting notice; correction.

SUMMARY: NHTSA published a document in the Federal Register of November 20, 2006, concerning a meeting notice for a forum on Human Factors Research Necessary to Support Advanced Vehicle Safety Technologies. The document did not contain the Docket Number.

FOR FURTHER INFORMATION CONTACT: Michael Perel, 202-366-5675.

Correction

Federal Register of November 20, 2006, on page 67203, in the first column, correct the “NHTSA Docket Number” caption to read: NHTSA Docket No. NTSA-2006-26286.

Dated: December 7, 2006.
Joseph N. Kanianthra,
Associate Administrator for Vehicle Safety Research.

[FR Doc. 06-9735 Filed 12-15-06; 8:45 am]

BILLING CODE 4910-59-M